DEPARTMENT OF TRANSPORTATION

Federal Aviation Administration

Fifteenth Meeting: RTCA Special Committee 222, Inmarsat AMS(R)S

AGENCY: Federal Aviation Administration (FAA), U.S. Department of Transportation (DOT).

ACTION: Meeting Notice of RTCA Special Committee 222, Inmarsat AMS(R)S.

SUMMARY: The FAA is issuing this notice to advise the public of the fifteenth meeting of the RTCA Special Committee 222, Inmarsat AMS(R)S.

DATES: The meeting will be held February 27, 2014 from 1:00 p.m.-5:00 p.m.

ADDRESSES: This meeting is scheduled in conjunction with, and immediately following, the ARINC AGCS meeting, so that individuals with interest in both meetings can easily attend. A Webex/telephone bridge will be provided.

Please contact Jennifer Iversen (jiversen@rtca.org) if you intent to attend in person or remotely. The meeting will be held at Double Tree Annapolis Hotel, 210 Holiday Court, Annapolis, MD 21401, Tel: +1 410 224-3150 Fax: +1 410 571-1123, www.doubletreeannapolis.com.

ARINC has negotiated discounted rates at the DoubleTree starting at $94.00 per night plus taxes. Please make reservations by telephone at +1-410-224-3150.

Note: The cut-off date for the $94.00 room rate is February 10, 2014. This meeting is expected to be largely virtual, conducted over Webex with a telephone bridge. Dr. LaBerge and Mr. Robinson will be present at RTCA. Those who plan to attend in person at the RTCA offices should notify Ms. Jennifer Iversen (jiversen@rtca.org) by February 17, 2013 to assure that appropriate space is reserved.

FOR FURTHER INFORMATION CONTACT: Jennifer Iversen may be contacted directly at email: jiversen@rtca.org or by The RTCA Secretariat, 1150 18th Street NW., Suite 910, Washington, DC, 20036, or by telephone at (202) 330-0662/(202) 833-9339, fax (202) 833-9434, or Web site at http://www.rtca.org.

SUPPLEMENTARY INFORMATION: Pursuant to section 10(a)(2) of the Federal Advisory Committee Act (Pub. L. 92-463, 5 U.S.C., App.), notice is hereby given for a meeting of Special Committee 222. The agenda will include the following:

February 27

• Greetings & Attendance.

• Review summary of June and November meetings (13th and 14th Plenaries).

• Report on the status of the DO-343 MASPS approval process.

• The primary focus of the meeting will be a final review of the draft material for the DO-262 MOPS for SwiftBroadband, and of the changes to DO-262 Iridium-specific material. Both sets of material will have undergone significant pre-FRAC coordination meetings in the last week of January and early February, so there should not be significant additional changes required before passing into the FRAC process. The outcome of the meeting is approval of the SwiftBroadband and Iridium material for release to the formal RTCA Final Review and Comment (FRAC) process.

• Other items as appropriate.

• Schedule for 16th Plenary. The 16th Plenary session will be for the purpose of resolving any comments received during the FRAC process.

• Adjourn.

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on February 5, 2014.
Paige Williams,
Management Analyst, NextGen, Business Operations Group, Federal Aviation Administration.

[FR Doc. 2014-02921 Filed 2-10-14; 8:45 am]

BILLING CODE 4910-13-P